DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of eight individuals who have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On October 23, 2018, OFAC determined that the property and interests in property subject to U.S. jurisdiction of the following persons are blocked under the relevant sanctions authority listed below.

Individuals

1. FAROQUI, Abdullah Samad (a.k.a. “SAMAD, Abdul”), Herat Province, Afghanistan; DOB 1972; alt. DOB 1971; alt. DOB 1973; POB Nahr-e Saraj District, Helmand Province, Afghanistan; Gender Male (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

2. MANAN, Abdul Rahim (a.k.a. “MANAN, Haji”; a.k.a. “RAHIM, Abdul”), Helmand Province, Afghanistan; DOB 1962; alt. DOB 1961; alt. DOB 1963; Gender Male (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

3. MUZZAMIL, Mohammad Daoud (a.k.a. DAWOUD, Muhammad); DOB 1983; POB Nahr-e Saraj District, Helmand Province, Afghanistan; Gender Male (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

4. IBRAHIM, Sadr, Afghanistan; DOB 1967; alt. DOB 1968; alt. DOB 1966; Gender Male (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

5. MAJID, Hafiz Abdul (a.k.a. “MAJID, Hafiz”), Pakistan; DOB 1972; alt. DOB 1973; alt. DOB 1971; Gender Male (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

6. AZIZ, Abdul (a.k.a. “BALOCH, Abdul Aziz”; a.k.a. “ZAMANI, Aziz Shah”), House #29, 30th St., Karachi, Pakistan; Quetta, Pakistan; DOB 1985; Gender Male; Passport AP1810244 expires 31 Oct 2026 (individual) [SDGT] (Linked To: TALIBAN).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, the TALIBAN, an entity determined to be subject to E.O. 13224.

7. OWHADI, Mohammad Ebrahim (a.k.a. OWHADI, Jalal; a.k.a. TAHERI, Jalal; a.k.a. VAHEDI, Jalal); DOB 1963; Gender Male (individual) [SDGT] (Linked To: ISLAMIC REVOLUTIONARY GUARD CORPS (IRGC)-QODS FORCE; Linked To: TALIBAN).

Designated pursuant to section 1(c) of Executive Order 13224 of September 23, 2001, “Blocking Property and Prohibiting Transactions With Persons Who Commit, Threaten to Commit, or Support Terrorism” (E.O. 13224) for acting for or on behalf of the ISLAMIC REVOLUTIONARY GUARD CORPS (IRGC)-QODS FORCE, an entity determined to be subject to E.O. 13224. Also designated pursuant to 1(d)(i) of E.O. 13224 for assisting in, sponsoring, or providing financial, material, or technological support for, or financial or other services to or in support of, the TALIBAN, an entity determined to be subject to E.O. 13224.

8. RAZAVI, Esma'il (a.k.a. MOHAJERI, Mostafa); DOB 1959; Gender Male (individual) [SDGT] (Linked To: ISLAMIC REVOLUTIONARY GUARD CORPS (IRGC)-QODS FORCE; Linked To: TALIBAN).

Designated pursuant to section 1(c) of Executive Order 13224 of September 23, 2001, “Blocking Property and Prohibiting Transactions With Persons Who Commit, Threaten to Commit, or Support Terrorism” (E.O. 13224) for acting for or on behalf of the ISLAMIC REVOLUTIONARY GUARD CORPS (IRGC)-QODS FORCE, an entity determined to be subject to E.O. 13224. Also designated pursuant to 1(d)(i) of E.O. 13224 for assisting in, sponsoring, or providing financial, material, or technological support for, or financial or other services to or in support of, the TALIBAN, an entity determined to be subject to E.O. 13224.

Dated: October 23, 2018.
Andrea Gacki,
Director, Office of Foreign Assets Control.

[FR Doc. 2018-23486 Filed 10-25-18; 8:45 am]

BILLING CODE 4810-AL-P